DEPARTMENT OF LABOR

Employment and Training Administration

[TA-W-54,128]

Precision Disc Corp., Knoxville, TN; Notice of Affirmative Determination Regarding Application for Reconsideration

By letter of April 14, 2004, the Sheet Metal Workers Union, Local 555, requested administrative reconsideration of the Department of Labor's Notice of Negative Determination Regarding Eligibility to Apply for Worker Adjustment Assistance, applicable to workers of the subject firm. The determination was signed on March 15, 2004, and the notice was published in the Federal Register on April 6, 2004 (69 FR 18109).

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 3rd day of June, 2004.
Elliott S. Kushner,
Certifying Officer, Division of Trade Adjustment Assistance.

[FR Doc. 04-13386 Filed 6-14-04; 8:45 am]

BILLING CODE 4510-30-P